DEPARTMENT OF DEFENSE

Office of the Secretary

Meeting of the Department of Defense Military Family Readiness Council (MFRC)

AGENCY: Office of the Under Secretary of Defense for Personnel and Readiness.

ACTION: Notice.

SUMMARY: Pursuant to section 10(a), Public Law 92-463, as amended, notice is hereby given of a forthcoming meeting of the Department of Defense Military Family Readiness Council (MFRC). The purpose of the Council meeting is to review the Council's Charter, review the status of warrior care, and address selected concerns of military family organizations.

DATES: The meeting will be held on August 5, 2010, from 2 to 4 p.m.

ADDRESSES: The meeting will be held at the Pentagon Conference Center B1 (escorts will be provided from Pentagon Conference Center entrance).

FOR FURTHER INFORMATION CONTACT: Mr. Matt Wiest, Office of the Deputy Under Secretary (Military Community & Family Policy), 4000 Defense Pentagon, Room 2E319, Washington, DC 20301-4000. Telephone (571) 256-1738 and/or e-mail: FamilyReadinessCouncil@osd.mil.

SUPPLEMENTARY INFORMATION: The meeting is open to the public, subject to the availability of space. Persons desiring to attend may contact Mr. Matt Wiest at 571-256-1738 or e-mail FamilyReadinessCouncil@osd.mil no later than 5 pm on Monday, August 2, 2010, to arrange for parking and escort into the conference room inside the Pentagon.

Interested persons may submit a written statement for consideration by the Council. Persons desiring to submit a written statement to the Council must notify the point of contact listed below no later than 5 p.m., Monday, August 2, 2010.

Meeting Agenda

Thursday, August 5, 2010 (2 p.m.-4 p.m.)

Welcome & Administrative Remarks.

Review and Comment on Council DoD Report on Plans for Support of Military Family Readiness.

Follow-up on Council's FY 2009 Recommendations.

Discussion of Assessment Process.

Discuss Defense Planning and Programming Guidance.

Intentions for the Fall 2010 Meeting.

Closing Remarks.

Note: Exact order may vary.

Dated: July 1, 2010.
Mitchell S. Bryman,
Alternate OSD Federal Register Liaison Officer, Department of Defense.

[FR Doc. 2010-16530 Filed 7-6-10; 8:45 am]

BILLING CODE 5001-06-P